DEPARTMENT OF HEALTH AND HUMAN SERVICES

Centers for Disease Control and Prevention

[30DAY-34-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: The Development and Testing of a Tool to Assess the Public's Perception about People with Epilepsy—New—National Center for Chronic Disease Prevention and Health Promotion (NCCDPHP), Centers for Disease Control and Prevention (CDC). About 2.3 million people in the U.S. have some form of epilepsy, a neurological condition in which the brain's normal electrical functions may be interrupted with bursts of electrical impulses. Epilepsy affects people of all ages, but particularly the very young and the elderly. Persons with chronic or disabling health conditions like epilepsy face myriad challenges including establishing and following a treatment regimen, developing and enacting self-management plans, and finding social support.

Compounding these challenges are the reactions and beliefs of people with whom they interact. The stigma and perceived stigma of their health condition can lead to problems with self-management of their disease and further morbidity.

The goal of this project is to develop a valid and reliable measurement tool to assess the public's perception of epilepsy and seizure disorders. This tool may shed light on the challenges in the social environment confronted by people with epilepsy and by their care givers. It will help gauge the climate of the general public and guide future epilepsy interventions. Once the tool has been developed, reliability and validity tests need to be conducted to ensure it is a scientifically rigorous instrument.

The goals of the proposed data collection are to assess the instrument's:

• Internal consistency—how well different measures of the same construct reflect that construct

• Concurrent validity—the degree to which an operation is able to predict the behavior it purports to predict

• Construct validity—the extent to which an operation measures only the defined construct and not other constructs

• Test-retest reliability—the stability of the measure over time

A random digit dial survey will be conducted with 750 respondents via computer assisted telephone interviewing (CATI) techniques. The number of respondents is sufficient to be generalizable to the U.S. population and to perform data reduction techniques such as factor analysis. Of the 750 respondents, 100 will be called back within two weeks to assess test-retest reliability. The total annual burden for this data collection is 318 hours.

Survey | Number of respondents | Number of responses/ respondent | Average burden/response (in hours)
Screening Calls | 900 | 1 | 2/60
Completed Interviews | 750 | 1 | 20/60
Reliability Test-Screening | 120 | 1 | 2/60
Reliability Test-Completed Interviews | 100 | 1 | 20/60

Dated: June 6, 2002.
Julie Fishman,
Acting Associate Director for Policy, Planning and Evaluation, Centers for Disease Control and Prevention.

[FR Doc. 02-15014 Filed 6-13-02; 8:45 am]

BILLING CODE 4163-18-P